DEPARTMENT OF HOMELAND SECURITY

Federal Emergency Management Agency

[Docket ID: FEMA-2012-0020; OMB No. 1660-0009]

Agency Information Collection Activities: Submission for OMB Review; Comment Request; The Declaration Process: Requests for Damage Assessment, Federal Disaster Assistance, Appeals, Cost Share Adjustment

AGENCY: Federal Emergency Management Agency, DHS.

ACTION: Notice; correction.

On May 15, 2012, the Federal Emergency Management Agency (FEMA) published a notice in the Federal Register at 77 FR 28615 notifying the public that it was submitting a request for review and approval of a collection of information under the emergency processing procedures in Office of Management and Budget (OMB) regulation 5 CFR 1320.13.

In that notice, FEMA stated that it was requesting that the information collection be approved by June 1, 2012. The correct date is actually June 14, 2012.

Dated: May 15, 2012.
Louis William Cortesio,
Acting Director, Records Management Division, Office of the Chief Administrative Office, Mission Support Bureau, Federal Emergency Management Agency, Department of Homeland Security.

[FR Doc. 2012-12299 Filed 5-21-12; 8:45 am]

BILLING CODE 9111-23-P